NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: April 27, 2009, 9 a.m.-5 p.m. and April 28, 2009, 9 a.m.-1 p.m.

Place: Stafford I, Room 1235, National Science Foundation, 4201 Wilson Blvd., Arlington, Virginia 22230.

Type of Meeting: Open.

Contact Person: Alan Tessier, National Science Foundation, Suite 635, 4201 Wilson Blvd., Arlington, Virginia 22230. Phone 703-292-7198.

Minutes: May be obtained from the contact person listed above.

Purpose of Meeting: To provide advice, recommendations, and oversight concerning support for environmental research and education.

Agenda:

April 27

Introduction of new members.

Update on budget and recent NSF environmental activities.

Discussion with Dr. Timothy L. Killeen, NSF Assistant Director for Geosciences.

Presentation by Dr. Stephanie Pfirman, Barnard College.

Discussion with Dr. Arden L. Bement, NSF Director.

April 28

Discussion of the Committee's report: Transitions and Tipping Points in Complex Environmental Systems.

Discussion of future AC/ERE activities.

Dated: March 24, 2009.
Susanne Bolton,
Committee Management Officer.

[FR Doc. E9-6932 Filed 3-27-09; 8:45 am]

BILLING CODE 7555-01-P